DEPARTMENT OF ENERGY

[Docket Nos. PP 80-1 and EA-288]

Application To Transfer Presidential Permit; Rescind Export Authorization; and Authorize Transmission of Electric Energy to Canada; Citizens Communications Company and Vermont Electric Cooperative, Inc.

AGENCY: Office of Fossil Energy, DOE.

ACTION: Notice of applications.

SUMMARY: Citizens Communications Company (Citizens) and Vermont Electric Cooperative, Inc. (VEC) have jointly applied to transfer Presidential Permit PP-80 from Citizens to VEC. In addition Citizens and VEC have jointly applied to rescind electricity export authorization EA-66-B, held by Citizens, and simultaneously authorize VEC to export electric energy to Canada.

DATES: Comments, protests or requests to intervene must be submitted on or before March 15, 2004.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Ellen Russell (Program Office), 202-586-9624 or Michael Skinker (Program Attorney) 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038. Existing Presidential permits are not transferable or assignable. However, in the event of a proposed voluntary transfer of physical facilities, in accordance with the regulations at 10 CFR 205.323, the existing holder of a permit and the transferee are required to a file joint application for transfer with the Department of Energy (DOE) that includes a statement of reasons for the transfer.

In addition, exports of electricity from the United States to a foreign country are regulated and require authorization under section 202(e) of the Federal Power Act (FPA) (16 U.S.C. 824a(e)). In accordance with the regulation at 10 CFR 205.305, an authorization to export electric energy is not transferable or assignable. Providing written notice is given to DOE, the authorization may continue in effect until a decision is made on a new application for a permanent authorization.

On August 5, 1983, DOE issued Presidential Permit PP-80 to Citizens Utilities Company (now Citizens Communications Company) for two 25,000-volt (25-kV) electric transmission lines that cross the United States border with Canada near Canaan, and Norton, Vermont, respectively. Both transmission lines interconnect with similar transmission facilities in Canada owned by Hydro Quebec.

On December 17, 2003, Citizens and VEC (collectively, the “Applicants”) jointly filed an application with DOE to transfer Presidential Permit PP-80 from Citizens to VEC. VEC is a consumer-owned electric distribution cooperative providing retail electric services to residential, small commercial, and industrial customers in rural Vermont. VEC does not own any electric generating facilities. VEC proposes to purchase from Citizens the transmission facilities that are the subject of PP-80. In this application, the Applicants state that there will be no physical changes to the existing permitted facilities.

In Docket EA-66, Citizens is authorized to export electric energy to Canada using the international transmission facilities authorized in Presidential Permit PP-66-1 issued to Vermont Electric Power Company, Inc., on November 5, 2003. In its joint application, Citizens and VEC request that this export authorization held by Citizens (EA-66-B) be rescinded and that VEC be simultaneously authorized to export electric energy to Canada using the 120-kV international transmission line authorized in PP-66-1 and located at Derby Line, Vermont. Subject to the same limitations set forth in EA-66-B, to become effective upon the financial closing of the transfer of ownership of certain of Citizen's transmission and distribution facilities in Vermont to VEC.

Procedural Matters: Any person desiring to become a party to these proceedings or to be heard by filing comments or protests to these applications should file a petition to intervene, comment or protest at the address provided above in accordance with §§ 385.211 or 385.214 of the FERC's Rules of Practice and Procedures (18 CFR 385.211, 385.214). Fifteen copies of each petition and protest should be filed with the DOE on or before the date listed above.

Comments on the joint application to transfer Presidential Permit PP-66 from Citizens to VELCO should be clearly marked with Docket PP-66-1. Comments on VEC's application to export electric energy to Canada should be clearly marked with Docket EA-288. Additional copies are to be filed directly with L. Russell Mitten, Esq., VP, General Counsel, Citizens Communications Company, 3 High Ridge Park, Stamford, CT 06905; Ms. Kelly Enright, Vice President and Executive Manager, Vermont Electric Cooperative, Inc., 182 School Street, Johnson, VT 05656 and Kenneth G. Hurwitz, Esq., Haynes and Boone, LLP, 1615 L Street, NW., Suite 800, Washington, DC 20036; and Michael L. Burak, Esq., Burak, Anderson & Melloni, P.O. Box 787, Burlington, VT 05402-0787.

Before a Presidential permit or electricity export authorization may be issued or amended, the DOE must determine that the proposed action(s) will not adversely impact on the reliability of the U.S. electric power supply system. In addition, DOE must consider the environmental impacts of the proposed action(s) (i.e., granting the Presidential permit and/or export authorization with any conditions and limitations, or denying one or both) pursuant to the National Environmental Policy Act of 1969. DOE also must obtain the concurrence of the Secretary of State and the Secretary of Defense before taking final action on a Presidential permit application.

Copies of these applications will be made available, upon request, for public inspection and copying at the address provided above or by accessing the Fossil Energy Home Page at http://www.fe.doe.gov. Upon reaching the Fossil Energy Home page, select “Electricity Regulation,” and then “Pending Proceedings” from the options menus.

Issued in Washington, DC, on February 9, 2004.
Anthony J. Como,
Deputy Director, Electric Power Regulation, Office of Coal & Power Import/Export, Office of Coal & Power Systems, Office of Fossil Energy.

[FR Doc. 04-3217 Filed 2-12-04; 8:45 am]

BILLING CODE 6450-01-P